SECURITIES AND EXCHANGE COMMISSION

[Release No. 34-98559; File No. SR-OCC-2023-003]

Self-Regulatory Organizations; Options Clearing Corporation; Notice of Designation of Longer Period for Commission Action on Proceedings To Determine Whether To Approve or Disapprove a Proposed Rule Change, as Modified by Partial Amendment No. 1, Concerning Clearing Member Cybersecurity Obligations

September 27, 2023.

On March 21, 2023, the Options Clearing Corporation (“OCC”) filed with the Securities and Exchange Commission (“Commission”) the proposed rule change SR-OCC-2023-003 pursuant to Section 19(b) of the Securities Exchange Act of 1934 (“Exchange Act”) ¹ and Rule 19b-4 ² thereunder to amend certain provisions in OCC's Rules relating to each Clearing Member's obligation to address a ”Security Incident” (i.e., the occurrence of a cyber-related disruption or intrusion) of that Clearing Member.³ The proposed rule change was published for public comment in the Federal Register on April 5, 2023.⁴ The Commission has received comments regarding the proposed rule change.⁵

¹ 15 U.S.C. 78s(b)(1).

² 17 CFR 240.19b-4.

³ See Notice of Filing infra note 4, at 88 FR at 20195.

⁴ Securities Exchange Act Release No. 97225 (Mar. 30, 2023), 88 FR 20195 (Apr. 5, 2023) (File No. SR-OCC-2023-003) (“Notice of Filing”).

⁵ Comments on the proposed rule change are available at https://www.sec.gov/comments/sr-occ-2023-003/srocc2023003.htm.

On May 18, 2023, pursuant to Section 19(b)(2) of the Exchange Act,⁶ the Commission designated a longer period within which to approve, disapprove, or institute proceedings to determine whether to approve or disapprove the proposed rule change.⁷ On May 24, 2023, OCC filed Partial Amendment No. 1 to the proposed rule change.⁸ On July 3, 2023, the Commission instituted proceedings, pursuant to Section 19(b)(2)(B) of the Exchange Act,⁹ to determine whether to approve or disapprove the Proposed Rule Change, as modified by Partial Amendment No. 1 (hereinafter defined as “Proposed Rule Change”).¹⁰

⁶ 15 U.S.C. 78s(b)(2).

⁷ Securities Exchange Act Release No. 97525 (May 18, 2023), 88 FR 33655 (May 24, 2023) (File No. SR-OCC-2023-003).

⁸ Securities Exchange Act Release No. 97602 (May 26, 2023), 88 FR 36351 (Jun. 2, 2023) (File No. SR-OCC-2023-003) (“Partial Amendment No. 1”).

⁹ 15 U.S.C. 78s(b)(2)(B).

¹⁰ Securities Exchange Act Release No. 97832 (July 3, 2023), 88 FR 43640 (July 10, 2023) (File No. SR-OCC-2023-003).

Section 19(b)(2) of the Exchange Act ¹¹ provides that proceedings to determine whether to approve or disapprove a proposed rule change must be concluded within 180 days of the date of publication of notice of filing of the proposed rule change. The time for conclusion of the proceedings may be extended for up to 60 days if the Commission determines that a longer period is appropriate and publishes the reasons for such determination.¹² The 180th day after publication of the Notice in the Federal Register is October 2, 2023.

¹¹ 15 U.S.C. 78s(b)(2).

¹² 15 U.S.C 78s(b)(2)(B)(ii)(II).

The Commission is extending the period for Commission action on the Proposed Rule Change. The Commission finds that it is appropriate to designate a longer period within which to take action on the Proposed Rule Change so that the Commission has sufficient time to consider the issues raised by the Proposed Rule Change and to take action on the Proposed Rule Change. Accordingly, pursuant to Section 19(b)(2)(B)(ii)(II) of the Exchange Act,¹³ the Commission designates December 1, 2023, as the date by which the Commission should either approve or disapprove the Proposed Rule Change SR-OCC-2023-003.

¹³ Id.

For the Commission, by the Division of Trading and Markets, pursuant to delegated authority.¹⁴
¹⁴ 17 CFR 200.30-3(a)(57).
Sherry R. Haywood,
Assistant Secretary.

[FR Doc. 2023-21784 Filed 10-2-23; 8:45 am]

BILLING CODE 8011-01-P